DEPARTMENT OF VETERANS AFFAIRS

Veterans' Rural Health Advisory Committee; Notice of Meeting

The Department of Veterans Affairs (VA) gives notice under the Federal Advisory Committee Act 5 U.S.C. App. 2, which the Veterans' Rural Health Advisory Committee will meet on November 15-16, 2016. On November 15, the meeting will be held in Conference Room 870 at 1800 G Street NW., Washington, DC 20006 and on November 16 it will be in Conference Room at the Vietnam Veterans of America, 8719 Colesville Road, Silver Spring, Maryland 20910. Both meetings will begin at 8:30 a.m. (EST) each day and adjourn at 5:00 p.m. (EST). The meetings are open to the public.

The purpose of the Committee is to advise the Secretary of Veterans Affairs on Health care issues affecting enrolled Veterans residing in rural areas. The Committee examines programs and policies that impact the delivery of VA health care to Veterans residing in rural areas and discusses ways to improve and enhance VA health care services for these Veterans.

The agenda will include updates from Department leadership, the Deputy Under Secretary for Health for Policy and Services, Director Office of Rural Health and Committee Chairwoman, as well as presentations on general health care access and quality.

Public comments will be received at 4:30 p.m. on November 16, 2016. Interested parties should contact Ms. Judy Bowie, via email at VRHAC@va.gov, or by fax 202-632-8609, or by mail at 810 Vermont Avenue NW., (10P1R), Washington, DC 20420. Individuals wishing to speak are invited to submit a 1-2 page summary of their Comment for inclusion in the official meeting record. Because the meeting is being held in a government building, a photo I.D. must be presented at the Guard's Desk as a part of the clearance process. Due to an increase in security protocols, and in order to prevent delays in clearance processing, you should allow an additional 30 minutes before the meeting begins. Any member of the public seeking additional information should contact Ms. Bowie at the phone number or email address noted above.

Dated: October 17, 2016.
LaTonya L. Small,
Advisory Committee Management Officer.

[FR Doc. 2016-25455 Filed 10-20-16; 8:45 am]

BILLING CODE P